DEPARTMENT OF HEALTH AND HUMAN SERVICES

Health Resources and Services Administration

Agency Information Collection Activities. Proposed Collection: Comment Request

In compliance with the requirement for opportunity for public comment on proposed data collection projects (section 3506(c)(2)(A) of Title 44, United States Code, as amended by the Paperwork Reduction Act of 1995, Public Law 104-13), the Health Resources and Services Administration (HRSA) publishes periodic summaries of proposed projects being developed for submission to the Office of Management and Budget (OMB) under the Paperwork Reduction Act of 1995. To request more information on the proposed project or to obtain a copy of the data collection plans and draft instruments, call the HRSA Reports Clearance Officer on (301) 443-1129.

Comments are invited on: (a) Whether the proposed collection of information is necessary for the proper performance of the functions of the Agency, including whether the information shall have practical utility; (b) the accuracy of the Agency's estimate of the burden of the proposed collection of information; (c) ways to enhance the quality, utility, and clarity of the information to be collected; and (d) ways to minimize the burden of the collection of information on respondents, including the use of automated collection techniques or other forms of information technology.

Proposed Project: National Practitioner Data Bank for Adverse Information on Physicians and Other Health Care Practitioners: Regulations and Forms (OMB No. 0915-0126)—Extension

The National Practitioner Data Bank (NPDB) was established through Title IV of Public Law (P.L.) 99-660, the Health Care Quality Improvement Act of 1986, as amended. Final regulations governing the NPDB are codified at 45 CFR part 60. Responsibility for NPDB implementation and operation resides in the Bureau of Health Professions, Health Resources and Services Administration, Department of Health and Human Services (HHS). The NPDB began operation on September 1, 1990.

The intent of Title IV of P.L. 99-660 is to improve the quality of health care by encouraging hospitals, State licensing boards, professional societies, and other entities providing health care services, to identify and discipline those who engage in unprofessional behavior; and to restrict the ability of incompetent physicians, dentists, and other health care practitioners to move from State to State without disclosure of the practitioner's previous damaging or incompetent performance.

The NPDB acts primarily as a flagging system; its principal purpose is to facilitate comprehensive review of practitioners' professional credentials and background. Information on medical malpractice payments, adverse licensure actions, adverse clinical privileging actions, adverse professional society actions, and Medicare/Medicaid exclusions is collected from, and disseminated to, eligible entities. It is intended that NPDB information should be considered with other relevant information in evaluating a practitioner's credentials.

The reporting forms and the request for information forms (query forms) are accessed, completed, and submitted to the NPDB electronically through the NPDB Web site at http://www.npdb-hipdb.hrsa.gov. All reporting and querying is performed through this secure Web site. Due to overlap in requirements for the Healthcare Integrity and Protection Data Bank (HIPDB), some of the NPDB's burden has been subsumed under the HIPDB.

Estimates of Annualized Burden are as Follows:

Regulation citation | Number of respondents | Frequency of responses | Hours per response (minutes) | Total burden hours
60.6(a) Errors & Omissions | 303 | 5 | 15 | 385
60.6(b) Revisions to Actions | 115 | 1.1 | 30 | 64
60.7(b) Medical Malpractice Payment Report | 485 | 39 | 45 | 14,236
60.8(b) Adverse Action Reports—State Boards | 0 | 0 | 0 | 0
60.9(a)3 Adverse Action Clinical Privileges & Professional Society | 686 | 1.5 | 45 | 785
Requests for Hearings by Entities | 1 | 1 | 480 | 8
60.10(a)(1) Queries by Hospital—Practitioner Applications | 6,000 | 37.3 | 5 | 18,615
60.10(a)(2) Queries by Hospitals—Two Yr. Cycle | 6,000 | 149 | 5 | 74,461
60.11(a)(1) Disclosure to Hospitals | 0 | 0 | 0 | 0
60.11(a)(2) Disclosure to Practitioners (Self-Query) | 0 | 0 | 0 | 0
60.11(a)(3) Disclosure to Licensure Boards | 80 | 225 | 5 | 1,499
60.11(a)(4) Queries by Non-Hospital Health Care Entities | 4,938 | 437 | 5 | 179,673
60.11(a)(5) Queries by Plaintiffs' Attorneys | 5 | 5 | 30 | 3.0
60.11(a)(6) Queries by Non-Hospital Health Care Entities—Peer Review | 0 | 0 | 0 | 0
60.11(a)(7) Requests by Researchers for Aggregated Data | 100 | 1 | 30 | 50
60.14(b) Practitioner Places a Report in Disputed Status | 666 | 1 | 5 | 55
60.14(b) Practitioner Statement | 2,563 | 1 | 45 | 1,922
60.14(b) Practitioner Requests for Secretarial Review | 117 | 1 | 480 | 936
60.3 Entity Registration—Initial | 500 | 1 | 60 | 500
60.3 Entity Registration—Update | 643 | 1 | 5 | 54
60.11(a) Authorized Agent Designation—Initial | 500 | 1 | 15 | 125
60.11(a) Authorized Agent-Update | 86 | 1 | 5 | 7
60.12(c) Account Discrepancy Report | 300 | 1 | 15 | 75
60.12(c) Electronic Funds Transfer Authorization | 363 | 1 | 15 | 91
60.3 Entity Reactivation | 100 | 1 | 60 | 100
Total |  |  |  | 293,644
Numbers in the table may not add up exactly due to rounding.

Send comments to Susan Queen, PhD, HRSA Reports Clearance Officer, Room 10-33, Parklawn Building, 5600 Fishers Lane, Rockville, Maryland 20857. Written comments should be received within 60 days of this notice.

Dated: February 22, 2007.
Alexandra Huttinger,
Acting Director, Division of Policy Review and Coordination.

[FR Doc. E7-3446 Filed 2-27-07; 8:45 am]

BILLING CODE 4165-15-P